DEPARTMENT OF VETERANS AFFAIRS

Privacy Act of 1974; System of Records

AGENCY: Department of Veterans Affairs.

ACTION: Notice to delete system of records.

SUMMARY: The Department of Veterans Affairs (VA) is deleting a system of records entitled “Chief Financial Officer and Fiscal Officer Designation and Certification Records System—VA” (85VA047), which was established at 58 FR 50628, dated September 28, 1993. The system contained information on applicants for Fiscal Officer and Chief Financial Officer positions in the Veterans Health Administration (VHA) medical facilities, as well as a register of certified station Fiscal Officers and Chief Financial Officers. This system of records is being deleted because this program was never active in the Office of Finance and the records were never collected. All selections of station Fiscal Officers and Chief Financial Officers have been decentralized.

A “Report of Intention to Publish a Federal Notice of Deletion of a System of Records” and a copy of the deletion of system notice have been provided to the appropriate Congressional committees and to the Office of Management and Budget (OMB), as required by 5 U.S.C. 552a(r) and guidelines issued by OMB, 65 FR 77677 (Dec. 12, 2000).

DATES: Effective Date: April 9, 2009.

FOR FURTHER INFORMATION CONTACT: Peter Mulhern, Office of Financial Policy (047G), Department of Veterans Affairs, 810 Vermont Avenue, NW., Washington, DC 20420, Telephone: (202) 461-6487 (this is not a toll-free number).

Approved: March 4, 2009.
John R. Gingrich,
Chief of Staff, Department of Veterans Affairs.

[FR Doc. E9-8064 Filed 4-8-09; 8:45 am]

BILLING CODE 8320-01-P